DEPARTMENT OF DEFENSE

Defense Finance and Accounting Service

Privacy Act of 1974; System of Records

AGENCY: Defense Finance and Accounting Service, DOD.

ACTION: Notice of New Systems of Records.

SUMMARY: The Defense Finance and Accounting Service proposes to add two systems of records notices to its inventory of record systems subject to the Privacy Act of 1974, (5 U.S.C. 552a), as amended.

DATES: This action will be effective without further notice on September 29, 2000 unless comments are received that would result in a contrary determination.

ADDRESSES: Privacy Act Officer, Defense Finance and Accounting Service, 1931 Jefferson Davis Highway, ATTN: DFAS/PE, Arlington, VA 22240-5291.

FOR FURTHER INFORMATION CONTACT: Mrs. Pauline E. Korpanty at (703) 607-3743.

SUPPLEMENTARY INFORMATION: The complete inventory of Defense Finance and Accounting Service records system notices subject to the Privacy Act of 1974 (5 U.S.C. 552a), as amended, have been published in the Federal Register and are available from the address above.

The proposed system report, as required by 5 U.S.C. 552a(r) of the Privacy Act, was submitted on August 16, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated:August 24, 2000.
L.M. Bynum,
Alternate OSD Federal Register Liaison Officer, Department of Defense.

T1300

System name:

Disbursing Officer Establishment and Appointment Files.

System location:

Defense Finance and Accounting Service-Cleveland Center, 1240 East 9th Street, Cleveland, OH 44199-2055.

Defense Finance and Accounting Service-Kansas City Center, 1500 East 95th Street, Kansas City, MO 64197-0001.

Defense Finance and Accounting Service-Indianapolis Center, 8899 East 56th Street, Indianapolis, IN 46249-0001.

Defense Finance and Accounting Service-Denver Center, 6760 East Irvington Place, Denver, CO 80279-5000.

Defense Finance and Accounting Service-Columbus Center, 4280 East 5th Avenue, Building 3, Columbus, OH 43218-2317.

Categories of individuals covered by the system:

Military members and DoD civilians who are appointed as deputies and individuals appointed as accountable disbursing officers.

Categories of records in the system:

Records include forms for designation and appointment of deputy and disbursing officer, letters to Federal Reserve banks, and requests for approval and appointment of accountable officers; appointment letters; commencement of disbursing duty letters; Financial Management Service Forms 3023, Specimen Signatures and 5583, Signature Card.

Authority for maintenance of the system:

5 U.S.C. 301, Departmental Regulations; DoD 7000.14-R, DoD Financial Management Regulation; DFAS 005, Delegation of Statutory Authority; and E.O. 9397 (SSN).

Purpose(s):

Information is used to determine whether an individual has held an accountable position in the past.

To obtain data for the appointment or termination of deputies and the appointment or termination of other than finance officers as accountable officers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve banks to verify authority of the accountable individual to issue Treasury checks.

The DoD ‘Blanket Routine Uses’ published at the beginning of the DFAS compilation of systems of records notices apply to this system.

Policies and practices for storing, retrieving, accessing, retaining, and disposing of records in the system:

Storage:

Maintained in file folders, optical disk systems, and computer databases.

Retrievability:

By individual's name, Social Security Number and accounting and disbursing station number.

Safeguards:

As a minimum, records are accessed by person(s) responsible for servicing, and are authorized to use, the record system in performance of their official duties who are properly screened and cleared for need to know. Additionally, at some Centers, records are in office buildings protected by guards and controlled by screening of personnel and registering of visitors.

Retention and disposal:

Disposition pending. Until the National Archives and Records Administration has approved the disposition, records will be treated as permanent.

System manager(s) and address:

Director of Network Operations, Defense Finance and Accounting Service-Cleveland Center, 1240 East 9th Street, Cleveland, OH 44199-2055.

Director of Accounting Operations, Defense Finance and Accounting Service-Kansas City Center, 1500 East 95th Street, Kansas City, MO 64197-0001.

Director of Network Operations, Defense Finance and Accounting Service-Indianapolis Center, 8899 East 56th Street, Indianapolis, IN 46249-0001.

Director of Accounting Operations, Defense Finance and Accounting Service-Denver Center, 6760 East Irvington Place, Denver, CO 80279-5000.

Director of Accounting Operations or Network Operations, Defense Finance and Accounting Service-Columbus Center, 4280 East 5th Avenue, Building 3, Columbus, OH 43218-2317.

Notification procedure:

Individuals seeking to determine whether information about themselves is contained in this system of records should address written inquiries to the Privacy Act Officer at the appropriate DFAS Center.

Individuals should provide sufficient proof of identity, such as full name, Social Security Number, or other information verifiable from the record itself.

Record access procedure:

Individuals seeking access to information about themselves contained in this system of records should address written inquiries to the records management officer or the Privacy Act Officer at the appropriate DFAS Center.

Individual should provide sufficient proof of identity, such as full name, Social Security Number, or other information verifiable from the record itself.

Contesting record procedures:

The DFAS rules for accessing records, for contesting contents and appealing initial agency determinations are published in DFAS Regulation 5400.11-R; 32 CFR part 324; or may be obtained from the Privacy Act Officer at any DFAS Center.

Record source categories:

Finance and accounting officers.

Exemptions claimed for the system:

None.

T7280

System name:

Uniformed Services Savings Deposit Program (USSDP).

System location:

Defense Finance and Accounting Service-Cleveland Center, 1240 East 9th Street, Cleveland, OH 44199-2055.

Categories of individuals covered by the system:

Military members on a permanent duty assignment outside the United States or its possessions, or members on a temporary duty assignment in support of a contingency operation outside the United States or its possessions, who choose to deposit their current pay and allowances, or a portion thereof, into an account administered by the Defense Finance and Accounting Service (DFAS).

Members who are in a missing status and whose pay and allowances, or a portion thereof, are deposited into an account administered by DFAS are also included.

Dependents, next-of-kin, survivors and former spouses of Uniformed Services Savings Deposit Program (USSDP) participants may be included.

Categories of records in the system:

Records required to administer the account, and account for accrued interest which includes, but is not limited to, the master account records for each depositor, transaction records of monetary data (deposits, withdrawals and adjustments), allotment records, name and Social Security Number change record, settled records, check writing and voucher register data records, interest paid records, quarterly statements records, supplemental address for interest refund records. File also contains correspondence files covering requests for information from members, Federal agencies, spouses, former spouses, dependents, survivors, widows or widowers, next of kin, the American Red Cross, Congress, and other DoD components.

Authority for maintenance of the system:

Pub.L. 89-538, Armed Forces Savings Deposits; 5 U.S.C. 301, Departmental Regulations; 10 U.S.C. 1035, Deposits of Savings; and E.O. 9397 (SSN)

Purpose(s):

Information is collected to facilitate account maintenance, including updating for deposits, withdrawals, interest accruals, adjustments and summary data, prior to clearing account when the account is terminated.

All records in this system of records are subject to use in authorized computer matching programs with the Department of Defense and with other Federal agencies or non-Federal agencies as regulated by the Privacy Act of 1974 (5 U.S.C. 552a), as amended.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs and the Social Security Administration to determine eligibility, entitlements, and addresses of Uniformed Services Deposit Program members.

To the Federal Housing Agency (FHA) to verify eligibility for loans.

To the American Red Cross to use in assisting the member or dependents in emergency situations.

To the widow or widower, dependent, or next-of-kin of deceased members to settle the affairs of the former member.

The DoD ‘Blanket Routine Uses’ published at the beginning of the DFAS compilation of record system notices also apply to this system.

Disclosure to consumer reporting agencies:

Disclosures pursuant to 5 U.S.C. 552a(b)(12) may be made from this system to ‘consumer reporting agencies’ as defined in the Fair Credit Reporting Act, 14 U.S.C. 1681a(f) or the Federal Claims Collection Act of 1966, 31 U.S.C. 3701(a)(3). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Maintained in paper files, on computer magnetic tapes and computer paper printouts, and on microfiche.

Retrievability:

By name and Social Security Number.

Safeguards:

As a minimum, records are accessed by person(s) responsible for servicing, and authorized to use, the record system in performance of their official duties who are properly screened and cleared for need to know.

Retention and disposal:

Disposition pending. Until the National Archives and Records Administration has approved the disposition, records will be treated as permanent.

System manager(s) and address:

Deputy Director for Finance Operations, Code F, Defense Finance and Accounting Service-Cleveland Center, 1240 East Ninth Street, Cleveland, OH 44199-2055.

Notification procedure:

Individuals seeking to determine whether information about themselves is contained in this system of records should address written inquiries to the Privacy Act Officer, Defense Finance and Accounting Service-Cleveland Center, 1240 Ninth Street, Cleveland, OH 44199-2055.

Individuals should provide sufficient proof of identity, such as name, Social Security Number, or other information verifiable from the record itself.

Record Access procedures:

Individuals seeking access to information about themselves contained in this system of records should address written inquiries to the Privacy Act Officer, Defense Finance and Accounting Service-Cleveland Center, 1240 East Ninth Street, Cleveland, OH 44199-2055.

Individuals should provide sufficient proof of identity, such as name, Social Security Number, or other information verifiable from the record itself.

Contesting record procedures:

The DFAS rules for accessing records, for contesting contents and appealing initial agency determinations are published in DFAS Regulation 5400.11-R; 32 CFR part 324; or may be obtained from the Privacy Act Officer at any DFAS Center.

Record source categories:

Information is obtained from the member, spouse, next-of-kin, survivors, and automated system interfaces with other pay systems.

Exemptions claimed for the system:

None.

[FR Doc. 00-22086 Filed 8-29-00; 8:45 am]

BILLING CODE 5001-10-F